DEPARTMENT OF COMMERCE

National Oceanic and Atmospheric Administration

Mid-Atlantic Fishery Management Council (MAFMC); Public Hearings

AGENCY: National Marine Fisheries Service (NMFS), National Oceanic and Atmospheric Administration (NOAA), Commerce.

ACTION: Notice of public hearings.

SUMMARY: The Mid-Atlantic Fishery Management Council (Council) will hold public hearings to allow for public input on Amendment 3 to the Spiny Dogfish Fishery Management Plan (FMP).

DATES: Written comments must be received on or before 5 p.m., EST, on September 24, 2012. The public hearings will be held on September 4, 5, and 6, 2012, starting at 7 p.m.

ADDRESSES: The hearings will be held, in chronological order, as follows: September 4, 2012 at the Magnuson Hotel Norfolk Airport, 5708 Northampton Blvd., Virginia Beach, VA 23455, telephone: (757) 460-2205; September 5, 2012 at The Holiday Inn, 151 Route 72 East, Manahawkin, NJ 08050, telephone: (609) 481-6100; and September 6, 2012 at the Hilton Garden Inn Providence Airport/Warwick, One Thuber Street, Warwick, RI 02886, telephone: (401) 734-9600. Written comments should be mailed to the Council office at the address below and marked “AMENDMENT 3.” The public hearing document can be obtained by contacting the Council at the address below or at http://www.mafmc.org/fmp/dogfish/dogfish.htm.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION: Amendment 3 addresses four management issues related to management of the spiny dogfish fishery in Atlantic federal waters. Specifically, the Amendment addresses (1) adding an option for allocating a small portion of the annual commercial quota as research set-aside, (2) reviewing and updating essential fish habitat (EFH) for spiny dogfish, (3) maintaining previous year annual management measures in case of a delay in the implementation of new annual measures, and (4) modifying the existing seasonal allocation of the annual quota to minimize conflicts with the geographically allocated interstate fishery.

Summaries of the proposed actions will be available and presented at the hearings. A draft Environmental Assessment (EA) that analyzes the proposed actions is available by contacting the Council office at http://www.mafmc.org/fmp/dogfish/dogfish.htm after August 31st. If no one from the public has arrived half an hour after the hearing start time, the hearing may be closed. Some GPS navigation units may provide faulty directions for these locations so call ahead with the number provided if unfamiliar with a hearing location. All hearings will be digitally recorded and saved as transcripts of the hearing.

Special Accommodations

These hearings are physically accessible to people with disabilities. Requests for sign language interpretation or other auxiliary aid should be directed to M. Jan Saunders, (302) 526-5251, at least 5 days prior to the hearing date.

Dated: August 14, 2012.
Tracey L. Thompson,
Acting Deputy Director, Office of Sustainable Fisheries, National Marine Fisheries Service.

[FR Doc. 2012-20215 Filed 8-16-12; 8:45 am]

BILLING CODE 3510-22-P